COMMISSION ON CIVIL RIGHTS

Notice of Public Meeting of the Louisiana Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Louisiana Advisory Committee (Committee) to the U.S. Commission on Civil Rights will hold project planning meetings via WebEx on the following dates and times:

• Wednesday, July 20, at 2:00 p.m. ET

• Wednesday, August 17, at 2:00 p.m. ET

• Wednesday, September 21, at 2:00 p.m. ET

• Wednesday, October 19, at 2:00 p.m. ET

The purpose of these meetings is to discuss and vote to select the topic for the Committee's civil rights project. Each planning meeting will last for approximately one hour.

DATES: Wednesday, July 20, at 2:00 p.m. ET; Wednesday, August 17, at 2:00 p.m. ET; Wednesday, September 21, at 2:00 p.m. ET; and Wednesday, October 19, at 2:00 p.m. ET.

Meeting Link: https://tinyurl.com/5n75rk8x.

Telephone (Audio Only): Dial 1-800-360-9505 USA Toll Free; Access code: 2761 303 1881.

FOR FURTHER INFORMATION CONTACT: Ivy Davis, DFO, and Director of the Eastern Regional Office (ERO, at ero@usccr.gov or 1-202-539-8468).

SUPPLEMENTARY INFORMATION: Members of the public can listen to these discussions.

Committee meetings are available to the public through the above call-in number. Any interested member of the public may call this number and listen to the meeting. An open comment period will be provided to allow members of the public to make a statement as time allows. Callers can expect to incur regular charges for calls they initiate over wireless lines, according to their wireless plan. The Commission will not refund any incurred charges. Callers will incur no charge for calls they initiate over land-line connections to the toll-free telephone number. Individuals who are deaf, deafblind and hard of hearing may follow the proceedings by first calling the Federal Relay Service at 1-800-877-8339 and providing the Service with the conference call number and conference ID number.

Members of the public are also entitled to submit written comments via email. The comments must be received in the regional office within 30 days following the meeting. Written comments may be emailed. The email subject line should state: Atten: LA and sent to this email address: ero@usccr.gov. Persons who desire additional information may contact the Eastern Regional Office at ero@usccr.gov.

Records generated from this meeting may be inspected and reproduced at the Eastern Regional Programs, as they become available, both before and after the meeting. Records of the meeting will be available via www.facadatabase.gov under the Commission on Civil Rights, West Virginia Advisory Committee link. Persons interested in the work of this Committee are directed to the Commission's website, http://www.usccr.gov, or may contact the Eastern Regional Office at the above email address.

Agenda

I. Roll Call

II. Welcome

III. Project Planning

IV. Other Matters

V. Next Meeting

VI. Public Comments

VII. Adjourn

Dated: July 5, 2022.
David Mussatt,
Supervisory Chief, Regional Programs Unit.

[FR Doc. 2022-14623 Filed 7-8-22; 8:45 am]

BILLING CODE 6335-01-P